DEPARTMENT OF TRANSPORTATION

Federal Highway Administration

Agency Information Collection Activities: Submission for OMB Emergency Review; Environmental Streamlining Survey

AGENCY: Federal Highway Administration (FHWA), DOT.

ACTION: Emergency notice.

SUMMARY: The FHWA has submitted the following request for emergency processing of a public information collection to the Office of Management and Budget (OMB) for review and clearance under the Paperwork Reduction Act of 1995. The collection involves surveying transportation and resource agencies involved in environmental streamlining in order to measure their performance. The information that is collected will be used to provide benchmarks for the agencies themselves and to focus on areas where process improvements can be made.

DATES: Please submit comments by May 24, 2002.

Comments: You may send comments to the Office of Information and Regulatory Affairs, Office of Management and Budget, 725 Seventeenth Street, NW., Washington, DC 20503, Attention: DOT Desk Officer.

FOR FURTHER INFORMATION CONTACT: Mr. Kreig Larson, 202-366-2056, Planning and Environment, Federal Highway Administration, Department of Transportation, 400 Seventh Street, SW., Washington, DC 20590. Office hours are from 7:00 a.m. to 4:30 p.m., Monday through Friday, except Federal holidays.

SUPPLEMENTARY INFORMATION: Type of Request: New.

Title: Environmental Streamlining: Measuring the Performance of Stakeholders in the Transportation Project Development Process.

Background: The U.S. Department of Transportation (DOT), FHWA, has contracted with the Gallup Organization to conduct a survey of professionals associated with transportation and resource agencies in order to gather their views on the workings of the environmental review process for transportation projects and how the process can be streamlined.

The purpose of the survey is to: (1) Collect the perceptions of agency professionals involved in conducting the decisionmaking processes mandated by the National Environmental Policy Act (NEPA) and other resource protection laws in order to develop benchmark performance measures; and (2) identify where the performance of the process might be improved by the application of techniques for streamlining.

The survey is an essential aspect of one of the goals of the U.S. DOT's Strategic Plan, which is to “Improve environmental decisionmaking processes in order to expedite surface transportation projects * * *” The FHWA Administrator has designated Environmental Stewardship and Streamlining as one of the agency's “Vital Few” initiatives, meaning it is a goal to which the FHWA will focus its activities and efforts to meet the mandate of Sec. 1309 (Environmental Streamlining) of the Transportation Equity Act for the 21st Century.

The FHWA has requested the emergency OMB approval by May 24, 2002, in order to respond promptly to the needs of Congress, and our partners, in addressing improvements to the environmental review process for transportation projects.

Respondents: Approximately 800 professionals/officials from state and local transportation and natural resource agencies.

Frequency: This is a one-time survey.

Estimated Burdens: Approximately 15 minutes average per respondent; the total estimated annual burden is 200 hours.

Authority: The Paperwork Reduction Act of 1995; 44 U.S.C. Chapter 35, as amended; and 49 CFR 1.48.

Issued on: May 10, 2002.
James R. Kabel,
Chief, Management Programs and Analysis Division.

[FR Doc. 02-12119 Filed 5-13-02; 8:45 am]

BILLING CODE 4910-22-P